DEPARTMENT OF EDUCATION

Privacy Act of 1974; Computer Matching Program

AGENCY: Office of the Inspector General, U.S. Department of Education.

ACTION: Notice of computer matching between the U.S. Department of Education and the U.S. Office of Personnel Management.

SUMMARY: Pursuant to the Privacy Act of 1974, as amended, and the Office of Management and Budget (OMB) guidelines on the conduct of computer matching programs, notice is hereby given of the establishment of a computer matching program between the U.S. Department of Education (ED) (recipient agency), and the U.S. Office of Personnel Management (OPM) (source agency). This matching program will become effective as explained in this notice.

In accordance with the Privacy Act of 1974 (5 U.S.C. 552a), as amended by the Computer Matching and Privacy Protection Act of 1988 (Pub. L. 100-503) and the Computer Matching and Privacy Protections Amendments of 1990 (Pub. L. 101-508) (Privacy Act), Office of Management and Budget (OMB) Guidelines on the Conduct of Matching Programs published in the Federal Register on June 19, 1989 (54 FR 25818), and OMB Circular No. A-130, Transmittal Memorandum #4, Management of Federal Information Resources (Nov. 28, 2000), we provide the following information:

1. Names of Participating Agencies

The U.S. Department of Education and the U.S. Office of Personnel Management.

2. Purpose of the Match

The purpose of this matching program between ED and OPM is to assist ED in detecting improper disbursements or overpayments of need-based student financial assistance funds under Title IV of the Higher Education Act of 1965, as amended (HEA), to Federal employees or their dependents. Overpayments may occur when Federal employee applicants underreport family income on the Free Application for Federal Student Aid (FAFSA). Financial need is determined by using a standard formula, established by Congress, to evaluate the financial information reported on the FAFSA and to determine the expected family contribution (EFC). A fundamental element in this standard formula is the student's or parents' income. This program will assist in verifying the income information reported by Federal employees on the FAFSA. ED will compare the FAFSA income to the income listed in OPM/GOVT-1 General Personnel Records System (71 FR 35342, June 29, 2006).

3. Authority for Conducting the Matching Program

ED is authorized to participate in the matching program under the Inspector General Act (IG Act) (5 U.S.C. App.). Section 2 of the IG Act authorizes ED's Office of Inspector General (OIG) to conduct audits and investigations relating to the programs and operations of ED. Section 4(a)(3) of the IG Act provides that it shall be the duty and responsibility of each Inspector General to coordinate other activities carried out or financed by ED for the purpose of preventing and detecting fraud and abuse in its programs and operations. In addition, under section 4(a)(4) of the IG Act it is the responsibility of ED's Inspector General to coordinate relationships between ED and other Federal agencies with respect to all matters relating to the prevention and detection of fraud and abuse in programs and operations administered or financed by ED.

4. Categories of Records and Individuals Covered by the Match

The Office of Inspector General Data Analytics System (ODAS) (18-10-02), which downloads data from the National Student Loan Data System (NSLDS) (18-11-06) and contains FAFSA information that ED uses to determine eligibility for need-based student financial assistance, will be matched against OPM's General Personnel Records System, which maintains records of current and former Federal employees, including grades, dates, and salaries for all Federal positions held.

5. Effective Dates of the Matching Program

The matching program will become effective: (1) Thirty days after publication of this notice in the Federal Register; or (2) forty days after a report concerning the matching program has been transmitted to the Office of Management and Budget and the Congress, whichever date occurs last. The matching program will continue for 18 months and can be extended for an additional 12 months thereafter if the conditions specified in 5 U.S.C. 552a(o)(2)(D) have been met.

6. Address for Receipt of Public Comments or Inquiries

Individuals wishing to comment on this matching program or obtain additional information about the program, including requesting a copy of the computer matching agreement between ED and OPM, should contact Ms. Shelley Shepherd, Assistant Counsel to the Inspector General, U.S. Department of Education, 400 Maryland Avenue, SW., Washington, DC 20202. Telephone: (202) 245-7077. If you use a telecommunications device for the deaf (TDD), call the Federal Relay Service (FRS), toll free, at 1-800-877-8339.

Individuals with disabilities may obtain this document in an accessible format (e.g., braille, large print, audiotape or computer diskette) on request to the contact person listed in the preceding paragraph.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: August 9, 2011.
Kathleen S. Tighe,
Inspector General.

[FR Doc. 2011-20608 Filed 8-11-11; 8:45 am]

BILLING CODE 4000-01-P